ENVIRONMENTAL PROTECTION AGENCY

40 CFR Part 81

[OH-132-2; KY-116-2; KY-84-2; FRL-6717-1]

Approval and Promulgation of Implementation Plans and Designation of Areas for Air Quality Planning Purposes; Ohio and Kentucky

Correction

In rule document 00-15294 beginning on page 37879 in the issue of Monday, June 19, 2000, make the following correction:

§81.318 [Corrected]

On page 37900, in §81.318, in the table, the title, “OHIO-OZONE” should read “KENTUCKY-OZONE”.

[FR Doc. C0-15294 Filed 6-29-00; 8:45 am]

BILLING CODE 1505-01-D

DEPARTMENT OF THE INTERIOR

Minerals Management Service

30 CFR Part 206

RIN 1010-AC72

Amendments to Gas Valuation Regulations for Indian Leases

Correction

In proposed rule document 00-15201 beginning on page 37504 in the issue of Thursday, June 15, 2000, make the following correction:

1. On page 37504, in the second column, in the last paragraph, in the second line, “30 CFR 206.174(1)” should read “30 CFR 206.174(l)”.

2. On the same page, in the third column, in the first full paragraph, in the first line, “§2096.174(1)” should read “§2096.174(l)”.

3. On the same page, in the same column, in the second full paragraph, in the ninth line, “most” should read “more”.

4. On the same page, in the same column, in the same paragraph, in the 15th line, “§206.174(1)” should read “§206.174(l)”.

5. On page 37505, in the first column, in the first full paragraph, in the 12th line from the bottom, “§206174(l)” should read “§206.174(l)”.

6. On the same page, in the same column, in the second full paragraph, in the second line, “§206.174(1)” should read “§206.174(l)”.

7. On page 37506, in the third column, in the first paragraph, in the eighth line, “does” should read “Does”.

§206.174 [Corrected]

8. On page 37507, in the first column, in §206.174, in amendatory instruction 2., paragraph “(1)” should read “(l)”.

[FR Doc. C0-15201 Filed 6-29-00; 8:45 am]

BILLING CODE 1505-01-D

DEPARTMENT OF HOUSING AND URBAN DEVELOPMENT

[Docket No. FR-4581-N-01]

Fiscal Year 2000 Notice of Funding Availability for the Assisted Living Conversion Program (ALCP) for Section 202 Projects

Correction

In notice document 00-6572 beginning on page 14694 in the issue of Friday, March 17, 2000 make the following correction:

On page 14701, in the third column, in paragraph (e), in the second line,“inch” should read “¼ inch ”.

[FR Doc. C0-6572 Filed 6-30-00; 8:45 am]

BILLING CODE 1505-01-D

SECURITIES AND EXCHANGE COMMISSION

[Release No. 34-42787; File No. SR-Amex-00-14]

Self-Regulatory Organizations; American Stock Exchange LLC; Order Approving Proposed Rule Change and Notice of Filing and Order Granting Accelerated Approval of Amendment No. 1 Relating to Generic Listing Standards Applicable to Listing Portfolio Depository Receipts and Index Fund Shares Pursuant to Rule 19b-4(e) Under the Securities Exchange Act of 1934

May 15, 2000.

Correction

In notice document 00-13004 beginning on page 33598, in the issue of Wednesday, May 24, 2000, make the following correction:

On page 33598, in the first column, the date is added to read as set forth above.

[FR Doc. C0-13004 Filed 6-30-00; 8:45 am]

BILLING CODE 1505-01-D

SECURITIES AND EXCHANGE COMMISSION

[Release No. 34-42767; File No. SR-PCX-99-07]

Self-Regulatory Organizations; Order Approving Proposed Rule Change and Notice of Filing and Order Granting Accelerated Approval to Amendment No. 2 to the Proposed Rule Change by the Pacific Exchange, Inc. Relating to Its Competing Specialist Program

May 9, 2000.

Correction

In notice document 00-12272, beginning on page 31200, in the issue of Tuesday, May 16, 2000, make the following correction:

On page 31200, in the third column, the date is added to read as set forth above.

[FR Doc. C0-12272 Filed 6-30-00; 8:45 am]

BILLING CODE 1505-01-D

SECURITIES AND EXCHANGE COMMISSION

[Release No. IC-24444; File No. 812-11960]

First Allmerica Financial Life Insurance Company, et al.

May 5, 2000.

Correction

In notice document 00-12132, beginning on page 31029, in the issue of Monday, May 15, 2000, make the following correction:

On page 31029, in the second column, the docket number is corrected to read as set forth above.

[FR Doc. C0-12132 Filed 6-30-00; 8:45 am]

BILLING CODE 1505-01-D

SECURITIES AND EXCHANGE COMMISSION

[Rel. No. IC-24443; File No. 812-11858]

Valley Forge Life Insurance Company, et al.

May 5, 2000.

Correction

In notice document 00-11960, beginning on page 30651, in the issue of Friday, May 12, 2000, make the following correction:

On page 30651, in the third column, the docket number is corrected to read as set forth above.

[FR Doc. C0-11960 Filed 6-30-00; 8:45 am]

BILLING CODE 1505-01-D

SECURITIES AND EXCHANGE COMMISSION

[Release No. 34-42864; File No. SR-NSCC-99-09]

Self-Regulatory Organizations: National Securities Clearing Corporation; Notice of Filing and Order Granting Accelerated Approval of a Proposed Rule Change Relating to Additional Procedures for Class A Surveillance of Certain Settling Members and to the Collection of Clearing Fund and Other Collateral Deposits From These Settling Members

May 30, 2000.

Correction

In notice document 00-14253, beginning on page 36204, in the issue of Wednesday, June 7, 2000, make the following correction:

On page 36204, in the second column, the date is added to read as set forth above.

[FR Doc. C0-14253 Filed 6-30-00; 8:45 am]

BILLING CODE 1505-01-D